DEPARTMENT OF COMMERCE

National Oceanic and Atmospheric Administration

RIN: 0648-XF76

Pacific Fishery Management Council; Public Meeting

AGENCY: National Marine Fisheries Service (NMFS), National Oceanic and Atmospheric Administration (NOAA), Commerce.

ACTION: Notice of public meetings.

SUMMARY: The Pacific Fishery Management Council (Council) and its advisory entities will hold public meetings.

DATES: The Council and its advisory entities will meet March 8-14, 2008. The Council meeting will begin on Sunday, March 9 at 3:30 p.m., reconvening each day through Friday. All meetings are open to the public, except a closed session will be held from 3:30 p.m. until 4:30 p.m. on Sunday, March 9 to address litigation and personnel matters. The Council will meet as late as necessary each day to complete its scheduled business.

ADDRESSES: The Highly Migratory Species Advisory Subpanel and Management Team meetings will be held at the Hilton Sacramento Arden West, 2200 Harvard Street, Sacramento, CA 95815; telephone: (916) 922-4700. All other meetings of the Council and its advisory entities will be held at the Doubletree Hotel Sacramento, 2001 Point West Way, Sacramento, CA 95815; telephone: (916) 929-8855.

Council address: Pacific Fishery Management Council, 7700 NE Ambassador Place, Suite 101, Portland, OR 97220.

FOR FURTHER INFORMATION CONTACT: Dr. Donald O. McIsaac, Executive Director; telephone: (503) 820-2280.

SUPPLEMENTARY INFORMATION: The following items are on the Council agenda, but not necessarily in this order:

A. Call to Order

1. Opening Remarks and Introductions

2. Roll Call

3. Executive Director's Report

4. Approve Agenda

B. Administrative Matters

1. Future Council Meeting Agenda Planning

2. Magnuson-Stevens Act Reauthorization Implementation

3. Membership Appointments and Council Operating Procedures

4. Approval of Council Meeting Minutes

5. Future Council Meeting Planning, April 2008 Council Meeting Agenda, and Workload Priorities

C. Highly Migratory Species Management

1. NMFS Report

2. Yellowfin Tuna Overfishing

3. High Seas Shallow-Set Longline (SSLL) Amendment

4. Exempted Fishing Permit (EFP) for Longline Fishing in the West Coast Exclusive Economic Zone

5. Public Comment Session on the High Seas SSLL Amendment and Longline Fishing EFP

D. Salmon Management

1. Review of 2007 Fisheries and Summary of 2008 Stock Abundance Estimates

2. Identification of Stocks not Meeting Conservation Objectives

3. Klamath River Fall Chinook Stock Assessment and Management Recommendations

4. Identification of Management Objectives and Preliminary Definition of 2008 Salmon Management Options

5. Council Recommendations for 2008 Management Option Analysis

6. Council Direction for 2008 Management Options (if necessary)

7. Adoption of 2008 Management Options for Public Review

8. Appoint Salmon Hearings Officers

E. Habitat Current Habitat Issues

F. Groundfish Management

1. NMFS Report

2. Stock Assessment Planning for 2011-2012 Management Measures

3. Pacific Whiting Harvest Specifications and Management Measures for 2008

4. Fishery Management Plan Amendment 22: Open Access License Limitation

5. Consideration of Inseason Adjustments

6. Tracking and Monitoring for Trawl Rationalization Program

G. Pacific Halibut Management

1. Report on the International Pacific Halibut Commission Meeting

2. Incidental Catch Regulations in the Salmon Troll and Fixed Gear Sablefish Fisheries

SCHEDULE OF ANCILLARY MEETINGS
Saturday, March 8, 2008 - Hilton Sacramento Arden West |
Highly Migratory Species Advisory Subpanel | 9 a.m.
Highly Migratory Species Management Team | 9 a.m.
Sunday, March 9, 2008 - Hilton Sacramento Arden West |
Highly Migratory Species Advisory Subpanel | 9 a.m.
Highly Migratory Species Management Team | 9 a.m.
Sunday, March 9, 2008 - Doubletree Hotel Sacramento |
Council Secretariat | 1 p.m.
Scientific and Statistical Committee | 1:30 p.m.
Groundfish Advisory Subpanel | 2 p.m.
Groundfish Management Team | 2 p.m.
Monday, March 10, 2008 |
Council Secretariat | 7 a.m.
California State Delegation | 7 a.m.
Oregon State Delegation | 7 a.m.
Groundfish Advisory Subpanel | 8 a.m.
Groundfish Management Team | 8 a.m.
Salmon Advisory Subpanel | 8 a.m.
Salmon Technical Team | 8 a.m.
Scientific and Statistical Committee | 8 a.m.
Habitat Committee | 9 a.m.
Enforcement Consultants | 4:30 p.m.
Tribal Policy Group | As necessary
Tribal and Washington Technical Group | As necessary
Washington State Delegation | As necessary
Tuesday, March 11, 2008 |
Council Secretariat | 7 a.m.
California State Delegation | 7 a.m.
Oregon State Delegation | 7 a.m.
Groundfish Advisory Subpanel | 8 a.m.
Groundfish Management Team | 8 a.m.
Salmon Advisory Subpanel | 8 a.m.
Salmon Technical Team | 8 a.m.
Scientific and Statistical Committee | 8 a.m.
Enforcement Consultants | As necessary
Tribal Policy Group | As necessary
Tribal and Washington Technical Group | As necessary
Washington State Delegation | As necessary
Wednesday, March 12, 2008 |
Council Secretariat | 7 a.m.
California State Delegation | 7 a.m.
Oregon State Delegation | 7 a.m.
Groundfish Advisory Subpanel | 8 a.m.
Groundfish Management Team | 8 a.m.
Salmon Advisory Subpanel | 8 a.m.
Salmon Technical Team | 8 a.m.
Enforcement Consultants | As necessary
Tribal Policy Group | As necessary
Tribal and Washington Technical Group | As necessary
Washington State Delegation | As necessary
Thursday, March 13, 2008 |
Council Secretariat | 7 a.m.
California State Delegation | 7 a.m.
Oregon State Delegation | 7 a.m.
Groundfish Advisory Subpanel | 8 a.m.
Groundfish Management Team | 8 a.m.
Salmon Advisory Subpanel | 8 a.m.
Salmon Technical Team | 8 a.m.
Enforcement Consultants | As necessary
Tribal Policy Group | As necessary
Tribal and Washington Technical Group | As necessary
Washington State Delegation | As necessary
Friday, March 14, 2008 |
Council Secretariat | 7 a.m.
California State Delegation | 7 a.m.
Oregon State Delegation | 7 a.m.
Enforcement Consultants | As necessary
Salmon Advisory Subpanel | As necessary
Salmon Technical Team | As necessary
Tribal and Washington Technical Group | As necessary
Washington State Delegation | As necessary

Although non-emergency issues not contained in this agenda may come before this Council for discussion, those issues may not be the subject of formal Council action during this meeting. Council action will be restricted to those issues specifically listed in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at (503) 820-2280 at least 5 days prior to the meeting date.

Dated: February 19, 2008.
Tracey L. Thompson,
Acting Director, Office of Sustainable Fisheries, National Marine Fisheries Service.

[FR Doc. E8-3300 Filed 2-21-08; 8:45 am]

BILLING CODE 3510-22-S